ENVIRONMENTAL PROTECTION AGENCY

40 CFR Parts 63, 264, 265, 266, and 270

[FRL-7039-5]

RIN-2050-AE79

NESHAP: Standards for Hazardous Air Pollutants for Hazardous Waste Combustors—Proposed Amendments; Extension of Comment Period

AGENCY: Environmental Protection Agency.

ACTION: Proposed rule; extension of comment period.

SUMMARY: In response to several commenters' request for more time to respond to issues, the Environmental Protection Agency is extending the comment period on its proposed amendments to NESHAP: Final Standards for Hazardous Air Pollutants Waste Combustors. On July 3, 2001 (66 FR 35126), EPA proposed potential revisions to several compliance, testing, and monitoring provisions of the final rule that established emissions standards for hazardous waste burning cement kilns, lightweight aggregate kilns, and incinerators. The comment period announced in the proposed rule was scheduled to end on August 17. Today's action extends the comment period for 60 days. Stakeholders, however, have not requested an extension of the comment period for two other actions (see 66 FR 35087 and 66 FR 35124) also published in the Federal Register on July 3, 2001. Today's action does not change the date by which comments must be submitted for those two actions.

DATES: The comment period for this NPRM is extended from the original closing date of August 17, 2001 to October 16, 2001.

ADDRESSES: If you wish to comment on the NPRM, you must send an original and two copies of the comments referencing docket number F-2001-RC5P-FFFFF to: RCRA Information Center (RIC), Office of Solid Waste (5305G), U.S. Environmental Protection Agency Headquarters (EPA HQ), Ariel Rios Building, 1200 Pennsylvania Avenue, NW., Washington, DC 20460-0002; or, (2) if using special delivery, such as overnight express service: RIC, Crystal Gateway One, 1235 Jefferson Davis Highway, First Floor, Arlington, VA 22202. You may also submit comments electronically following the directions in the Supplementary Information section below.

You may view public comments and supporting materials in the RIC. The RIC is open from 9 am to 4 pm Monday through Friday, excluding Federal holidays. To review docket materials, we recommend that you make an appointment by calling 703-603-9230. You may copy up to 100 pages from any regulatory document at no charge. Additional copies cost $ 0.15 per page.

FOR FURTHER INFORMATION CONTACT: For general information, call the RCRA Call Center at 1-800-424-9346 or TDD 1-800-553-7672 (hearing impaired). Callers within the Washington Metropolitan Area must dial 703-412-9810 or TDD 703-412-3323 (hearing impaired). The RCRA Call Center is open Monday-Friday, 9 am to 4 pm, Eastern Standard Time. For more information on this extension notice, contact Rhonda Minnick at 703-308-8871, minnick.rhonda@epa.gov, or write her at the Office of Solid Waste, 5302W, U.S. EPA, Ariel Rios Building, 1200 Pennsylvania Avenue, NW., Washington, DC 20460.

SUPPLEMENTARY INFORMATION: On September 30, 1999, the NESHAP: Final Standards for Hazardous Air Pollutants for Hazardous Waste Combustors was promulgated (64 FR 52828). On July 3, 2001, EPA proposed potential revisions to several compliance, testing, and monitoring provisions of the final rule (66 FR 35126). On July 24, 2001, the Court of Appeals for the District of Columbia decided Cement Kiln Recycling Coalition, et al., v. EPA, et al., (D.C. Cir. No. 99-1457 (and consolidated cases)). This case decided several issues related to the September 30, 1999 final rule. In response to several commenters' requests for more time to respond to issues in the proposed rule considering the recent court decision, EPA is extending the proposed rule's comment period. This document extends the comment period for 60 days. Stakeholders, however, have not requested an extension of the comment period for two other actions (see 66 FR 35087 and 66 FR 35124) also published in the Federal Register on July 3, 2001. Today's action does not change the date by which comments must be submitted for those two actions.

List of Subjects

40 CFR Part 63

Environmental protection, Air pollution control, Hazardous substances, Reporting and recordkeeping requirements.

40 CFR Part 264

Environmental protection, Air pollution control, Hazardous waste, Insurance, Packaging and containers, Reporting and recordkeeping requirements, Security measures, Surety bonds.

40 CFR Part 265

Environmental protection, Air pollution control, Hazardous waste, Insurance, Packaging and containers, Reporting and recordkeeping requirements, Security measures, Surety bonds, Water supply.

40 CFR Part 266

Environmental protection, Energy, Hazardous waste, Recycling, Reporting and recordkeeping requirements.

40 CFR Part 270

Environmental protection, Administrative practice and procedure, Confidential business information, Hazardous materials transportation, Hazardous waste, Reporting and recordkeeping requirements, Water pollution control, Water supply.

Dated: August 14, 2001.
Michael H. Shapiro,
Acting Assistant Administrator, Solid Waste and Emergency Response.

[FR Doc. 01-20897 Filed 8-16-01; 8:45 am]

BILLING CODE 6560-50-P